DEPARTMENT OF COMMERCE

National Oceanic and Atmospheric Administration

50 CFR Part 622

RIN 0648-BG77

Fisheries of the Caribbean, Gulf of Mexico, and South Atlantic; Snapper-Grouper Fishery of the South Atlantic Region; Amendment 41

AGENCY: National Marine Fisheries Service (NMFS), National Oceanic and Atmospheric Administration (NOAA), Commerce.

ACTION: Notice of availability; request for comments.

SUMMARY: The South Atlantic Fishery Management Council (South Atlantic Council) has submitted Amendment 41 to the Fishery Management Plan (FMP) for the Snapper-Grouper Fishery of the South Atlantic Region (Snapper-Grouper FMP) for review, approval, and implementation by NMFS. Amendment 41 would revise management reference points, annual catch limits (ACLs), optimum yield (OY), and management measures for mutton snapper in the South Atlantic based on the results of the most recent stock assessment. The purpose of Amendment 41 is to ensure that mutton snapper is managed based on the best scientific information available to achieve OY and to prevent overfishing, while minimizing adverse social and economic effects to the extent practicable.

DATES: Written comments on Amendment 41 must be received by November 27, 2017.

ADDRESSES: You may submit comments on Amendment 41, identified by “NOAA-NMFS-2017-0103,” by either of the following methods:

• Electronic submission: Submit all electronic comments via the Federal e-Rulemaking Portal. Go to www.regulations.gov/#!docketDetail;D=NOAA-NMFS-2017-0103, click the “Comment Now!” icon, complete the required fields, and enter or attach your comments.

• Mail: Submit written comments to Mary Vara, NMFS Southeast Regional Office, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in required fields if you wish to remain anonymous).

Electronic copies of Amendment 41 may be obtained from www.regulations.gov or the Southeast Regional Office Web site at http://sero.nmfs.noaa.gov. Amendment 41 includes an environmental assessment, regulatory impact review, Regulatory Flexibility Act analysis, and fishery impact statement.

FOR FURTHER INFORMATION CONTACT: Mary Vara, NMFS Southeast Regional Office, telephone: 727-824-5305, or email: mary.vara@noaa.gov.

SUPPLEMENTARY INFORMATION: The Magnuson-Stevens Fishery Conservation and Management Act (Magnuson-Stevens Act) requires each regional fishery management council to submit FMPs or amendments to NMFS for review and approval, partial approval, or disapproval. The Magnuson-Stevens Act also requires that NMFS, upon receiving an FMP or amendment, publish an announcement in the Federal Register notifying the public that the FMP or amendment is available for review and comment.

Amendment 41 to the Snapper-Grouper FMP was prepared by the South Atlantic Council and, if approved, would be implemented by NMFS through regulations at 50 CFR part 622 under the authority of the Magnuson-Stevens Act.

Background

The Magnuson-Stevens Act requires that NMFS and regional fishery management councils prevent overfishing and achieve, on a continuing basis, the OY from federally managed fish stocks. These mandates are intended to ensure that fishery resources are managed for the greatest overall benefit to the nation, particularly with respect to providing food production and recreational opportunities, and protecting marine ecosystems. To further this goal, the Magnuson-Stevens Act requires fishery management councils to minimize bycatch and bycatch mortality to the extent practicable.

Mutton snapper are harvested throughout the Gulf of Mexico (Gulf) and South Atlantic, although harvest predominately occurs around the Florida Keys. In the South Atlantic, mutton snapper are part of the snapper-grouper fishery, and the South Atlantic Council manages this fishery under the Snapper-Grouper FMP. In the Gulf, mutton snapper are part of the reef fish fishery, and the Gulf of Mexico Fishery Management Council (Gulf Council) manages this fishery under the FMP for Reef Fish Resources of the Gulf of Mexico. The jurisdictional boundary between the South Atlantic and Gulf Councils is specified at 50 CFR 600.105(c), and is located approximately in the Florida Keys (Monroe County, FL). The mutton snapper stock in the Gulf and South Atlantic was assessed in 2008 (Southeast Data, Assessment, and Review Assessment 15A (SEDAR 15A)), with a single acceptable biological catch (ABC) that encompasses both councils' areas of jurisdiction. The South Atlantic and Gulf Councils, with the advice of their Scientific and Statistical Committees (SSCs), apportioned this total ABC between the councils' FMPs based on historical landings. The final rules for the South Atlantic Council's Comprehensive ACL Amendment (77 FR 15916, March 16, 2012) and the Gulf Council's Generic ACL Amendment (76 FR 82044, December 29, 2011) allocated the total mutton snapper ABC as 82 percent in the South Atlantic and 18 percent in the Gulf.

In 2015, there was an update to SEDAR 15A for the mutton snapper stock in the South Atlantic and Gulf using data through 2013 (SEDAR 15A Update). The SEDAR 15A Update indicated that in the South Atlantic and Gulf, the mutton snapper stock is neither overfished nor undergoing overfishing. However, improvements to the modeling approach used in the SEDAR 15A Update resulted in smaller population estimates than demonstrated in SEDAR 15A. The South Atlantic and Gulf Councils' SSCs reviewed the SEDAR 15A Update and recommended a reduction in the stock's total ABC. Based on results from the SEDAR 15A Update and recommendations from its SSC, the South Atlantic Council is taking action through Amendment 41 to revise its management of mutton snapper in the South Atlantic. The Gulf Council is also examining management alternatives for mutton snapper in the Gulf exclusive economic zone (EEZ) through a framework amendment to the FMP for Reef Fish Resources of the Gulf of Mexico.

Actions Contained in Amendment 41

Amendment 41 contains actions to revise management reference points, fishing levels, and management measures for mutton snapper in the South Atlantic. Unless otherwise noted, all weights of mutton snapper are described in round weight.

Maximum Sustainable Yield and Minimum Stock Size Threshold

Currently, the maximum sustainable yield (MSY) for mutton snapper in the South Atlantic equals the yield produced by the fishing mortality rate at MSY (FMSY) (where F equals fishing mortality that if applied constantly, would achieve MSY under equilibrium conditions). The FMSY proxy is F30%SPR, or the fishing mortality that will produce a static spawning per recruit. Amendment 41 would change the MSY definition to the yield produced by FMSY or the FMSY proxy, with the MSY and FMSY proxy recommended by the most recent stock assessment. If this MSY definition is implemented, future MSY numerical values could be updated following a stock assessment, SSC review and recommendation, and acceptance of that recommendation by the South Atlantic Council. Currently, MSY numerical values for mutton snapper are not specified because the South Atlantic Council did not specify the MSY estimate from SEDAR 15A. Based on the SEDAR 15A Update and the new MSY definition, the resulting MSY for the mutton snapper stock in the South Atlantic would be 912,500 lb (413,903 kg).

Currently, the minimum stock size threshold (MSST) is equal to the spawning stock biomass at MSY (SSBMSY)*(1-M) or 0.5, whichever is greater (where M equals natural mortality). Amendment 41 would change the MSST definition to 75 percent of SSBMSY, which results in an MSST of 3,486,900 lb (1,581,631 kg). The SEDAR 15A Update estimated the natural mortality for mutton snapper at 0.17, and the proposed MSST for mutton snapper in Amendment 41 is consistent with how the South Atlantic Council has defined MSST for other snapper-grouper stocks with similarly low natural mortality estimates.

Commercial and Recreational ACLs

The current total ABC for mutton snapper in the South Atlantic and Gulf jurisdictions is 1,130,000 lb (512,559 kg). Based on the South Atlantic and Gulf Councils' agreed apportionment of the mutton snapper ABC between their FMPs, the current ABC for mutton snapper in the South Atlantic is 926,600 lb (420,299 kg), and the South Atlantic Council set the ABC equal to the OY and the total ACL. The South Atlantic Council then further allocated the total ACL between the commercial sector (17.02 percent) and recreational sector (82.98 percent), resulting in the commercial ACL of 157,743 lb (71,551 kg) and the recreational ACL of 768,857 lb (348,748 kg). Amendment 41 would revise the ABC and the commercial and recreational ACLs for mutton snapper in the South Atlantic for the 2017 through 2020 and subsequent fishing years, consistent with the existing apportionment between the two councils' FMPs and the existing sector allocations.

As described in Amendment 41, the South Atlantic Council's SSC recommended that the ABC be specified in numbers of fish, based on landing projections from the stock assessment. The South Atlantic Council agreed with this recommendation for the ABC, but specified the commercial ACL in pounds and the recreational ACL in numbers of fish because commercial landings are already tracked in pounds, while recreational landings are tracked in numbers of fish. In addition, because Amendment 41 would increase the minimum size limit for mutton snapper, the South Atlantic Council was concerned that specifying the recreational ACL in pounds could increase the risk of exceeding the recreational ACL if the method for converting the ACL in numbers to pounds does not sufficiently address the change in average weight of larger, heavier fish. Therefore, the South Atlantic Council determined that there would be a reduced risk of exceeding the recreational ACL due to an increase in the minimum size limit if the ABC and recreational ACL were specified in numbers of fish. Because the current ABC and recreational ACL are specified in pounds, and the new ABC and recreational ACL are specified in numbers of fish, Appendix J to Amendment 41 includes a detailed account of the methodology used to specify the ABC and recreational ACL in numbers of fish. As a reference for comparing numbers of fish to pounds of fish, the average weight of a recreationally harvested mutton snapper in 2017 is 4.2 lb (1.9 kg) per fish.

Based on results from the SEDAR 15A Update and the SSC's recommended ABC, Amendment 41 would decrease the ABC for mutton snapper in the South Atlantic to 129,150 fish for the 2017 fishing year, 134,890 fish for 2018, 138,826 fish for 2019, and 141,614 fish for 2020 and subsequent fishing years.

The proposed commercial ACLs for mutton snapper are 100,015 lb (45,366 kg) for 2017, 104,231 lb (47,278 kg) for 2018, 107,981 lb (48,979 kg) for 2019, and 111,354 lb (50,509 kg) for 2020 and subsequent fishing years.

The proposed recreational ACLs for mutton snapper are 116,127 fish for 2017, 121,318 fish for 2018, 124,766 fish for 2019, and 127,115 fish for 2020 and subsequent fishing years.

Recreational ACTs

The current recreational ACT for South Atlantic mutton snapper is 668,906 lb (303,411 kg). Amendment 41 would specify a recreational ACT (equal to 85 percent of the recreational ACL) of 98,708 fish for 2017. The recreational ACT would increase annually from 2017 through 2020, and would remain in effect until modified. The recreational ACT would be 103,121 fish for 2018, 106,051 fish for 2019, and 108,048 fish for 2020 and subsequent fishing years. NMFS notes that the current and proposed recreational ACTs are used only for monitoring and do not trigger a recreational accountability measure.

Minimum Size Limit

The current minimum size limit for the commercial and recreational sectors of mutton snapper is 16 inches (40.6 cm), total length (TL), and Amendment 41 would increase the minimum size limit to 18 inches (45.7 cm), TL. Recent scientific information indicates that the size at which 50 percent of mutton snapper are sexually mature is 16 inches (40.6 cm), TL, for males and 18 inches (45.7 cm), TL, for females. Increasing the minimum size limit to 18 inches (45.7 cm), TL, would allow more individuals to reach reproductive activity before being susceptible to harvest, and is also projected to increase the average size and the corresponding average weight of fish harvested.

Spawning Months

Currently, there is no designated spawning season for mutton snapper in the South Atlantic; however, to protect spawning fish, a May through June seasonal harvest limitation applies to vessels with a Federal commercial permit for South Atlantic snapper-grouper. There are no similar management measures in place to constrain recreational harvest in May and June. Amendment 41 would designate April through June as spawning months, during which certain management measures, such as the proposed commercial trip limits, would apply.

Commercial Trip Limits

Currently, there is no year-round commercial trip limit for mutton snapper in the South Atlantic. However, during May and June of each year, there is a seasonal harvest limitation (equivalent to a commercial trip limit) for the possession of mutton snapper in or from the EEZ on board a vessel that has a Federal commercial permit for South Atlantic snapper-grouper. During these two months, the commercial harvest of mutton snapper is limited to 10 per person per day or 10 per person per trip, whichever is more restrictive (50 CFR 622.184(b)).

Amendment 41 would replace the current seasonal harvest limitation for the commercial sector each year in May and June, and would implement commercial trip limits for the purposes of maintaining a year-round commercial fishing season and reducing harvest on mutton snapper spawning aggregations. During the proposed mutton snapper spawning months of April through June, Amendment 41 would establish a commercial trip limit of five fish per person per day or five fish per person per trip, whichever is more restrictive. For the remainder of the year (January through March and July through December), Amendment 41 would establish a 500-lb (227-kg) commercial trip limit.

Recreational Bag Limits

Currently, mutton snapper is part of the 10 snapper combined recreational bag limit in the South Atlantic that applies throughout the fishing year (50 CFR 622.187(b)(4)). Through Amendment 41, mutton snapper would remain within the 10 snapper combined recreational bag limit in the South Atlantic, but a recreational bag limit of 5 mutton snapper per person per day would apply within the overall 10 snapper combined bag limit, year-round. Amendment 41 would modify the bag and possession limits for the purposes of maintaining a year-round recreational fishing season, and reducing harvest on mutton snapper spawning aggregations.

Proposed Rule for Amendment 41

A proposed rule that would implement Amendment 41 has been drafted. In accordance with the Magnuson-Stevens Act, NMFS is evaluating the proposed rule to determine whether it is consistent with the FMP, the Magnuson-Stevens Act, and other applicable laws. If that determination is affirmative, NMFS will publish the proposed rule in the Federal Register for public review and comment.

Consideration of Public Comments

The South Atlantic Council has submitted Amendment 41 for Secretarial review, approval, and implementation. Comments on Amendment 41 must be received by November 27, 2017. Comments received during the respective comment periods, whether specifically directed to Amendment 41 or the proposed rule, will be considered by NMFS in the decision to approve, disapprove, or partially approve Amendment 41. Comments received after the comment periods will not be considered by NMFS in this decision. All comments received by NMFS on Amendment 41 or the proposed rule during their respective comment periods will be addressed in the final rule.

Authority: 16 U.S.C. 1801 et seq.

Dated: September 20, 2017.
Alan D. Risenhoover,
Director, Office of Sustainable Fisheries, National Marine Fisheries Service.

[FR Doc. 2017-20480 Filed 9-25-17; 8:45 am]

BILLING CODE 3510-22-P